DEPARTMENT OF EDUCATION

Notice of Extension of Project Period and Waiver for the Center on Learning Disabilities

AGENCY: Office of Special Education Programs, Office of Special Education and Rehabilitative Services, Department of Education.

SUMMARY: The Secretary waives the requirements in the Education Department General Administrative Regulations (EDGAR), in 34 CFR 75.250 and 75.261(a), respectively, that generally prohibit project periods exceeding five years and extensions of project periods involving the obligation of additional Federal funds. This extension of project period and waiver will enable the currently funded Center on Learning Disabilities to receive funding from October 1, 2006 through September 30, 2007.

DATES: This extension of project period and waiver are effective September 20, 2006.

FOR FURTHER INFORMATION CONTACT: Renee Bradley, U.S. Department of Education, 400 Maryland Avenue, SW., Room 4105, Potomac Center Plaza, Washington, DC 20202-2641. Telephone: (202) 245-7277.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Background

On July 6, 2001, the Department published a notice in the Federal Register (66 FR 35746) inviting applications for a new award for fiscal year (FY) 2001 for a Center on Learning Disabilities (Center). Based on that notice, the Department made one award for a period of 60 months to Vanderbilt University to establish and operate the Center to conduct follow-up research, provide training, disseminate synthesized research validated information, and to provide national technical assistance on issues in the area of identification and assessment of children with learning disabilities. This Center was designed from its inception to conduct both research and technical assistance activities with a shift over the project period from primarily research to a larger proportion of dissemination and technical assistance activities.

Extension and Waiver

The Center's current project period is scheduled to end on September 30, 2006. However, with the recent release of the Federal regulations implementing Part B of the Individuals with Disabilities Education Act, as reauthorized by the Individuals with Disabilities Education Improvement Act of 2004, there is an urgent need to continue certain of the Center's data analysis, dissemination, and technical assistance activities for an additional year. The new procedures in the regulations regarding the identification of children with learning disabilities are one of the major implementation challenges that States and local school districts will face in implementing the new regulations. In order to ensure that continued assistance is available to assist States and local school districts, the Secretary is waiving the requirements in 34 CFR 75.250 and 75.261(a) and intends to issue a continuation award to the existing grantee for an additional twelve-month period.

The Center will continue its dissemination and technical assistance activities, including further development and implementation of a technical assistance and dissemination approach that links research to practice and promotes the use of current knowledge and ongoing research findings. Under this approach, the Center works with other Department of Education technical assistance providers to communicate research findings and distribute products; and prepares the research findings and products in formats that are useful for specific audiences, including general education researchers, and local, State, and national policymakers, as well as education practitioners. In addition to this broad dissemination of information, the Center will continue its work with the previously identified implementation sites, local schools and districts that the Center has been working with over the past three years, assisting them in their efforts to implement response to intervention and to evaluate and document progress of those efforts. Based on the knowledge gained, the Center will continue to develop materials to assist in effective large-scale implementation of response to intervention and the identification of children with learning disabilities. The Center also will be continuing work to develop additional technical assistance products on specific learning disabilities and complete an Implementation Resource Kit on Learning Disabilities.

Finally, the Center will complete final analysis of data from the longitudinal identification studies in math and reading that the Center conducted to investigate the impact of various identification models on the number of students identified with a specific learning disability. Data from these studies also will be analyzed to inform the Center's development of products to assist with the implementation of response to intervention and the identification of students with learning disabilities.

Waiver of Proposed Rulemaking and Delayed Effective Date

Under the Administrative Procedure Act (5 U.S.C. 553) (APA) the Department generally offers interested parties the opportunity to comment on an extension of project period and waiver under 34 CFR 75.250 and 75.261(a). The APA provides that an agency is not required to conduct notice and comment rulemaking when the agency for good cause finds that notice and public procedure thereon are impracticable, unnecessary, or contrary to the public interest. We have determined that conducting rulemaking on the proposed extension and waiver would be impracticable because the Department cannot both conduct rulemaking and issue a continuation award to the Center by September 30, 2006. Further, it is essential that the Department make the continuation award to ensure that the critical work being conducted by the Center continues, including providing significant technical assistance to States and local school districts as they begin implementation of the provisions of IDEA and the Part B regulations regarding response to intervention and the identification of children with specific learning disabilities. Rulemaking was not conducted on this matter at an earlier time because the critical need for assistance on this issue was not realized until the issuance of the Part B regulations on August 3, 2006 and the subsequent OSEP Leadership meeting with all of the State Directors of Special Education on August 21-23, 2006.

The APA also provides that a substantive rule may not take effect within 30 days from publication unless the agency for good cause finds that a delayed effective date would not be in the public interest. For the reasons described in the preceding paragraph, we also are waiving the APA's requirement that this extension and waiver be published at least 30 days before the effective date.

Regulatory Flexibility Act Certification

The Secretary certifies that the extension of the project period and waiver will not have a significant economic impact on a substantial number of small entities. The only entity that will be affected is the Center on Learning Disabilities.

Paperwork Reduction Act of 1995

This extension of project period and waiver does not contain any information collection requirements.

Intergovernmental Review

This program is not subject to the requirements of Executive Order 12372 and the regulations in 34 CFR part 79.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: September 14, 2006.
Andrew J. Pepin,
Executive Administrator, Office of Special Education and Rehabilitative Services.

[FR Doc. E6-15578 Filed 9-19-06; 8:45 am]

BILLING CODE 4000-01-P